DEPARTMENT OF DEFENSE

Department of the Army; Corps of Engineers

Intent To Prepare a Draft Supplemental Environmental Impact Statement for the Louisiana Coastal Area (LCA)—Louisiana, Convey Atchafalaya River Water to Northern Terrebonne Marshes Feasibility Study

AGENCY: Department of the Army, U.S. Army Corps of Engineers, DoD.

ACTION: Notice of intent.

SUMMARY: The U.S. Army Corps of Engineers (USACE) intends to prepare a supplemental environmental impact statement (SEIS) for the Louisiana Coastal Area (LCA)—Louisiana, Convey Atchafalaya River Water to Northern Terrebonne Marshes restoration project. This restoration project will increase existing Atchafalaya River influence to central (Lake Boudreaux) and eastern (Grand Bayou) Terrebonne marshes via the GIWW by introducing flow into the Grand Bayou Basin. This SEIS will be tiered off of the programmatic EIS for the Louisiana Coastal Area (LCA)—Louisiana, Ecosystem Restoration Study, November 2004. The record of decision for the programmatic EIS was signed on November 18, 2005.

DATES: See SUPPLEMENTARY INFORMATION section for scoping meeting dates.

FOR FURTHER INFORMATION CONTACT: Questions concerning the draft SEIS should be addressed to Nathan S. Dayan., CEMVN-PM-RS, P.O. Box 60267, New Orleans, LA 70160-0267; telephone: (504) 862-2530; fax: (504) 862-1583; or by e-mail: Nathan.S.Dayan@usace.army.mil.

SUPPLEMENTARY INFORMATION: 1. Authority. This SEIS will be tiered off of the programmatic EIS for the Louisiana Coastal Area (LCA)—Louisiana, Ecosystem Restoration Study, November 2004. The record of decision for the programmatic EIS was signed on November 18, 2005. The Water Resources Development Act of 2007 (WRDA 2007) authorized the LCA program. The authority includes requirements for comprehensive planning, program governance, implementation, and other program components. The LCA restoration program will facilitate the implementation of critical restoration features and essential science and technology demonstration projects, increase the beneficial use of dredged material and determine the need for modification of selected existing projects to support coastal restoration objectives. The LCA near-term plan includes fifteen elements authorized for implementation contingent upon meeting certain reporting requirements. Specifically, Section 7006(e)(3) instructs the Secretary of the Army to submit feasibility reports to Congress on six elements of the LCA near-term restoration plan by December 31, 2008. The six elements are: (1) Multipurpose Operation of Houma Navigation Lock, (2) Terrebonne Basin Barrier Shoreline Restoration, (3) Small Diversion at Convent/Blind River, (4) Amite River Diversion Canal Modification, (5) Medium Diversion at Whites Ditch, and (6) Convey Atchafalaya River Water to Northern Terrebonne Marshes. The Congressional language further authorizes construction of these six elements contingent upon completion of a favorable report of the Chief of Engineers, no later than December 31, 2010, and subsequent subsission to the Committee on Transportation and Infrastructure of the House of Representatives and the Committee on Environment and Public Works of the Senate.

2. Proposed Action. The Convey Atchafalaya River Water to Northern Terrebonne Marshes restoration project proposes enlarging the connecting channels (Bayou L'Eau Bleu) to capture as much of the surplus flow (max. 2000 to 4000 cfs) that would otherwise leave the Terrebonne Basin. Gated control structures would be installed to restrict channel cross-sections to prevent increased saltwater intrusion during the late summer and fall when Atchafalaya River influence is typically low. Some auxiliary freshwater distribution structures may be included. This project also includes increasing freshwater supply through repairing banks along the GIWW, enlarging constrictions in the GIWW, and diverting additional Atchafalaya River freshwater through the Avoca Island Levee and into Bayou Chene/GIWW system.

3. Public Involvement. Public involvement, an essential part of the SEIS process, is integral to assessing the environmental consequences of the proposed action and improving the quality of the environmental decision making. The public includes affected and interested Federal, state, and local agencies, Indian tribes, concerned citizens, stakeholders, and other interested parties. Public participation in the SEIS process will be strongly encouraged, both formally and informally, to enhance the probability of a more technically accurate, economically feasible, and socially and politically acceptable SEIS. Public involvement will include but is not limited to: Information dissemination; identification of problems, needs and opportunities; idea generation; public education; problem solving; providing feedback on proposals; evaluation of alternatives; conflict resolution by consensus; public and scoping notices and meetings; public, stakeholder and advisory groups consultation and meetings; and making the SEIS and supporting information readily available in conveniently located places, such as libraries and on the World Wide Web.

4. Scoping. Scoping, an early and open process for identifying the scope of significant issues related to the proposed action to be addressed in the SEIS, will be used to: (a) Identify the affected public and agency concerns; (b) facilitate an efficient SEIS preparation process; (c) define the issues and alternatives that will be examined in detail in the SEIS; and (d) save time in the overall process by helping to ensure that the draft SEIS adequately addresses relevant issues. A Scoping Meeting Notice announcing the locations, dates and times for scoping meetings will be mailed to all interested parties in January 2009.

5. Coordination. The USACE and the U.S. Fish and Wildlife Service (USFWS) have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS and the National Marine Fisheries Service (NMFS) regarding threatened and endangered species under their respective jurisdictional responsibilities. Coordination will be maintained with the NMFS regarding essential fish habitat. Coordination will be maintained with the Natural Resources Conservation Service regarding prime and unique farmlands. The U.S. Department of Agriculture will be consulted regarding the “Swampbuster” provisions of the Food Security Act. Coordination will be maintained with the U.S. Environmental Protection Agency concerning compliance with Executive Order 12898, “Federal Action to Address Environmental Justice in Minority Populations and Low-Income Populations.” Coordination will be maintained with the Advisory Counsel on Historic Preservation and the State Historic Preservation Officer. The Louisiana Department of Natural Resources will be consulted regarding consistency with the Coastal Zone Management Act. The Louisiana Department of Wildlife and Fisheries will be consulted concerning potential impacts to Natural and Scenic Streams.

5. Availability of Draft SEIS. The earliest that the draft SEIS will be available for public review would be in spring of 2010. The draft SEIS or a notice of availability will be distributed to affected Federal, state, and local agencies, Indian tribes, and other interested parties.

December 11, 2008.
Mark D. Jernigan,
Lieutenant Colonel, U.S. Army Deputy District Commander.

[FR Doc. E8-30358 Filed 12-19-08; 8:45 am]

BILLING CODE 3720-58-P